DEPARTMENT OF JUSTICE

Drug Enforcement Administration

Manufacturer of Controlled Substances; Notice of Application

Pursuant to § 1301.33(a) of Title 21 of the Code of Federal Regulations (CFR), this is notice that on December 4, 2009, Sigma Aldrich Research Biochemicals, Inc., 1-3 Strathmore Road, Natick, Massachusetts 01760-2447, made application by renewal to the Drug Enforcement Administration (DEA) as a bulk manufacturer of the basic classes of controlled substances in schedules I and II:

Drug | Schedule
Cathinone (1235) | I
Methcathinone (1237) | I
Aminorex (1585) | I
Alpha-ethyltryptamine (7249) | I
Lysergic acid diethylamide (7315) | I
Tetrahydrocannabinols (7370) | I

Drug | Schedule
4-Bromo-2,5-dimethoxyamphetamine (7391) | I
4-Bromo-2,5-dimethoxyphenethylamine (7392) | I
2,5-Dimethoxyamphetamine (7396) | I
3,4-Methylenedioxyamphetamine (7400) | I
N-Hydroxy-3,4-methylenedioxyamphetamine (7402) | I
3,4-Methylenedioxy-N-ethylamphetamine (7404) | I
3,4-Methylenedioxymethamphetamine (MDMA) (7405) | I
Psilocybin (7437) | I
5-Methoxy-N,N-diisopropyltryptamine (7439) | I
1-[1-(2-Thienyl)cyclohexyl]piperidine (TCP) (7470) | I
N-Benzylpiperazine (BZP) (7493) | I
Heroin (9200) | I
Normorphine (9313) | I
Amphetamine (1100) | II
Methamphetamine (1105) | II
Nabilone (7379) | II
1-Phenylcyclohexylamine (7460) | II
Phencyclidine (7471) | II
Cocaine (9041 | II
Codeine (9050) | II
Diprenorphine (9058) | II
Ecgonine (9180) | II

Drug | Schedule
Levomethorphan (9210) | II
Levorphanol (9220) | II
Meperidine (9230) | II
Metazocine (9240) | II
Methadone (9250) | II
Morphine (9300)
II Thebaine (9333) | II
Levo-alphacetylmethadol (9648) | II
Remifentanil (9739) | II
Carfentanil (9743) | II
Fentanyl (9801) | II

The company plans to manufacture reference standards.

Any other such applicant, and any person who is presently registered with DEA to manufacture such a substance, may file comments or objections to the issuance of the proposed registration pursuant to 21 CFR 1301.33(a).

Any such written comments or objections should be addressed, in quintuplicate, to the Drug Enforcement Administration, Office of Diversion Control, Federal Register Representative (ODL), 8701 Morrissette Drive, Springfield, VA 22152; and must be filed no later than May 24, 2010.

Dated: March 16, 2010.
Joseph T. Rannazzisi,
Deputy Assistant Administrator, Office of Diversion Control, Drug Enforcement Administration.

[FR Doc. 2010-6415 Filed 3-23-10; 8:45 am]

BILLING CODE 4410-09-P